DEPARTMENT OF JUSTICE

Antitrust Division

Notice Pursuant to the National Cooperative Research and Production Act of 1993—Management Service Providers Association, Inc.

Notice is hereby given that, on February 11, 2002, pursuant to section 6(a) of the National Cooperative Research and Production Act of 1993, 15 U.S.C. 4301 et seq. (“the Act”) Management Service Providers Association, Inc. has filed written notifications simultaneously with the Attorney General and the Federal Trade Commission disclosing changes in its membership status. The notifications were filed for the purpose of extending the Act's provisions limiting the recovery of antitrust plaintiffs to actual damages under specified circumstances. Specifically, Intellinet Corporation, Richmond Heights, OH and Situs Management Inc., Tokyo, JAPAN have been added as parties to this venture. Also, the following are no longer members: 2nd Wave Inc., Dallas, TX; Access360, Irvine, CA; AdventNet Inc., Pleasanton, CA; Altaworks Corporation, Nashua, NH; Aptegrity Inc., Fairfield, NJ; Arsenal Digital Solutions, Durham, NC; Arula Systems Inc., Cupertino, CA; Avasta Inc., San Francisco, CA; AVCOM, Sunnyvale, CA; Candle Corporation, El Segundo, CA; Center 7 Inc., Lindon, UT; Check Point Software Technologies Ltd., Redwood City, CA; Crystal Group Inc., Hiawatha, IA; DefendNet Solutions Inc., Providence, RI; developNET Corporation, Portland, OR; Digital Fuel Technologies Inc., Redwood City, CA; Dimension Data McLean, VA; Dirig Software, Nashua, NH; e4e Inc., Santa Clara, CA; EasyVista.com, Beverly, MA; Entuity, New York, NY; Envive Corporation, Mountain View, CA; esavio, Berwyn PA; Euclid Network Solutins Inc., Santa Clara, CA; FusionStrorm, San Francisco, CA; Gomez Networks, Lincoln, MA; Guardent Inc., Waltham, MA; ISManaged Inc., Plano, TX; Keynote Systems Inc., San Mateo, CA; Kinetica Pty. Ltd., Pymble, New South Wales, AUSTRALIA; Logical Worldwide, Slough, UNITED KINGDOM; Luminate Inc., Redwood City, CA; ManagedStorage International Inc., Broomfield, CO; Marimba Inc., Mountain View, CA; N-able Technologies, Ottowa, Ontario, CANADA, NCMX Inc., Seattle, WA; NEXL Inc., Peabody MA; NOCpulse Inc., Sunnyvale, CA; Objective Systems Integrators, Folsom, CA; Oblicore Inc., Ramat Gan, ISRAEL; OMRON ALPHATEC Corporation, Tokyo, JAPAN; Opticom Inc., Andover, MA; PatchLink.com Corporation, Scottsdale, AZ; Precise Software Systems Ltd., Westwood, MA; Qualys Inc., Redwood City, CA; Raymond James & Associates, St. Petersburg, FL; Selis Networks Inc., San Francisco, CA; SilverBack Technologies, Billerica, MA; StorageWay Inc., Fremont, CA; Symantec Corporation, Cupertino, CA; TEKsystems Internet Business Services LLC, Beaverton, OR; and Trend Micro Inc., Cupertino, CA.

No other changes have been made in either the membership or planned activity of the group research project. Membership in this group research project remains open, and Management Service Providers Association, Inc. intends to file additional written notification disclosing all changes in membership.

On October 20, 2000, Management Service Providers Association, Inc. filed its original notification pursuant to section 6(a) of the Act. The Department of Justice published a notice in the Federal Register pursuant to section 6(b) of the Act on November 24, 2000 (65 FR 70613).

The last notification was filed with the Department on November 20, 2001. A notice was published in the Federal Register pursuant to section 6(b) of the Act on February 5, 2002 (67 FR 5292).

Constance K. Robinson,
Director of Operations Antitrust Division.

[FR Doc. 02-7282 Filed 3-26-02; 8:45 am]

BILLING CODE 4410-11-M